OFFICE OF MANAGEMENT AND BUDGET

Proposed Revisions to OMB Statistical Policy Directive No. 1, Standards for Statistical Surveys, and OMB Statistical Policy Directive No. 2, Publication of Statistics

AGENCY: Office of Management and Budget, Executive Office of the President.

ACTION: Notice and request for comments.

SUMMARY: As part of an ongoing effort to improve the quality, objectivity, utility, and integrity of information collected and disseminated by the Federal Government, the Office of Management and Budget (OMB) requests comments on the recommendations that it has received from the Federal Committee on Statistical Methodology (FCSM) Subcommittee on Standards for Statistical Surveys to update and revise OMB Statistical Policy Directive No. 1, Standards for Statistical Surveys, and OMB Statistical Policy Directive No. 2, Publication of Statistics. The guidance, which applies to all Federal agencies subject to the Paperwork Reduction Act of 1995, is intended to ensure that the results of statistical surveys sponsored by the Federal Government are as reliable and useful as possible. The FCSM Subcommittee's recommendations, which are available in their entirety on the OMB Web site at http://www.whitehouse.gov/omb/inforeg/statpolicy.html, are the result of a two-year comprehensive review of the current standards.

Authority: 44 U.S.C. 3504(e)(3).

DATES: To ensure consideration during the final decision-making process, written comments must be provided to OMB no later than September 12, 2005.

ADDRESSES: Due to potential delays in OMB's receipt and processing of mail, respondents are strongly encouraged to submit comments electronically to ensure timely receipt. We cannot guarantee that comments mailed will be received before the comment closing date. Electronic comments may be submitted to: Brian A. Harris-Kojetin at bharrisk@omb.eop.gov. Please put the full body of your comments in the text of the electronic message and as an attachment. Please include your name, title, organization, postal address, telephone number, and e-mail address in the text of the message. Comments may also be submitted via facsimile to (202) 395-7245. Comments may be mailed to Brian Harris-Kojetin, PhD, Office of Information and Regulatory Affairs, Office of Management and Budget, 725 17th Street, NW., New Executive Office Building, Room 10201, Washington, DC 20503.

FOR FURTHER INFORMATION CONTACT: Brian Harris-Kojetin, PhD, Statistical and Science Policy Office, Office of Information and Regulatory Affairs, Office of Management and Budget, NEOB, Room 10201, 725 17th Street, NW., Washington, DC 20503. Telephone: 202-395-3093.

SUPPLEMENTARY INFORMATION:

Background

Statistics collected and published by the Federal Government constitute a significant portion of the available information about the United States' economy, population, natural resources, environment, and public and private institutions. These data are used by the Federal Government and others as a basis for actions that affect people's lives and well-being. It is essential that they be collected, processed, and published in a manner that guarantees and inspires confidence in their reliability. The statistical programs of the Federal Government are decentralized among more than 70 agencies or organizational units. It is therefore also essential that, to the extent permitted by law, there be sufficient government-wide uniformity in statistical methods and practices to ensure the maximum usefulness of the statistics produced.

The Paperwork Reduction Act of 1995 (PRA; 44 U.S.C. 3504) gives the Director of OMB broad responsibility for improving the usefulness of information collected, maintained, and disseminated by the Federal Government and for reducing the reporting burden on the public. Among the Director's functions under the PRA are statistical policy and coordination, which includes the development and implementation of “Government-wide polices, principles, standards, and guidelines concerning (a) statistical collection procedures and methods; (b) statistical data classification; (c) statistical information presentation and dissemination; (d) timely release of statistical data; and (e) such statistical data sources as may be required for the administration of Federal programs” (44 U.S.C. 3504(e)(3)). The Administrator for the Office of Information and Regulatory Affairs in OMB has the responsibility to “develop programs and prescribe regulations to improve the compilation, analysis, publication, and dissemination of statistical information by executive agencies” (31 U.S.C. 1104(d)).

The proposal from the Federal Committee on Statistical Methodology's (FCSM) Subcommittee on Standards for Statistical Surveys provides revised guidance for designing, conducting, and disseminating statistical surveys and studies sponsored by Federal agencies. The standards and guidelines are intended to ensure that such surveys and studies are designed to produce reliable data as efficiently as possible and that methods are documented and results presented in a manner that makes the data as accessible and useful as possible.

These revised standards and guidelines would replace OMB Statistical Policy Directives Nos. 1 and 2, on Standards for Statistical Surveys, and Standards for Publishing Statistics, respectively. These standards and guidelines were last revised in 1974 when they were issued as OMB Circular No. A-46, Exhibits A and B. The standards were reissued in 1977 as Statistical Policy Directives 1 and 2 when the Statistical Policy Office was temporarily relocated to the Department of Commence, and their designation as Statistical Policy Directives remained when the statistical policy function was returned to OMB in 1981 under the Paperwork Reduction Act of 1980.

Development and Review

As part of ongoing efforts to improve the quality of information collected by the Federal Government and to update statistical standards and guidance, OMB requested in 2003 that agencies who were members of the Interagency Council on Statistical Policy (ICSP) nominate representatives to a new subcommittee formed under the aegis of the Federal Committee on Statistical Methodology. This subcommittee was asked to review Statistical Policy Directives Nos. 1 and 2 and to make recommendations for updating or revising these standards to reflect current best practices in Federal statistical agencies.

The subcommittee reviewed the OMB directives, standards currently used by Federal statistical agencies, and standards and guidelines produced and disseminated by national statistical institutes in a number of other countries. The subcommittee also drew on interagency efforts by statistical agencies to develop a common framework for their activities in response to OMB's issuance of its Information Quality Guidelines (IQG) and the requirement that agencies issue their own IQGs (67 FR 8452-8460).

The revised and updated standards and guidelines proposed by the subcommittee reflect the organizational framework that the statistical agencies used for their Information Quality Guidelines. They are the product of a careful and deliberate process to create a set of standards and guidelines that will address all key aspects of planning, conducting, processing, and disseminating Federal statistical surveys. Because OMB standards and guidelines must cover a broad range of applications, agencies are encouraged to develop their own more specific standards for the statistical surveys and studies they conduct or sponsor. The subcommittee provided initial draft standards and guidelines for review by the FCSM and then by the ICSP in 2004. The subcommittee addressed the comments it received at each stage and provided its recommendations to OMB in 2005.

Issues for Comment: With this Notice, OMB requests comments on the recommendations it has received from the interagency FCSM Subcommittee on Standards for Statistical Surveys. The proposed standards and guidelines as well as the original Statistical Policy Directives Nos. 1 and 2 are available at http://www.whitehouse.gov/omb/inforeg/statpolicy.html.

OMB seeks comments from all interested parties on all aspects of these proposed standards and guidelines. In particular, OMB seeks comment on the merit of the proposed standards and guidelines both in technical terms and as statistical policy. These standards and guidelines should reflect best practices for Federal agencies and their contractors in conducting statistical surveys as well as sound policy for the Federal statistical system. OMB seeks comment on whether some provisions of this proposal should be modified or deleted to meet these goals. Finally, OMB seeks comment from affected agencies on the expected benefits and burdens of the proposed standards and guidelines.

John D. Graham,
Administrator, Office of Information and Regulatory Affairs.

[FR Doc. 05-13837 Filed 7-13-05; 8:45 am]

BILLING CODE 3110-01-P